SECURITIES AND EXCHANGE COMMISSION

Submission for OMB Review; Comment Request

Upon Written Request, Copies Available From: Securities and Exchange Commission, Office of Investor Education and Advocacy, Washington, DC 20549-0213.

Extension:

Form 8-K, OMB Control No. 3235-0060, SEC File No. 270-50.

Notice is hereby given that, pursuant to the Paperwork Reduction Act of 1995 (44 U.S.C. 3501 et seq.), the Securities and Exchange Commission (“Commission”) has submitted to the Office of Management and Budget a request for extension of the previously approved collection of information discussed below.

Form 8-K (17 CFR 249.308) is filed by issuers to satisfy their current reporting obligations pursuant to Section 13 and 15(d) of the Securities Exchange Act of 1934 (15 U.S.C. 78m and 78o(d)) in connection with the occurrence of significant corporate events. The purpose of Form 8-K is to provide investors with prompt disclosure of material information so that investors will be able to make investment and voting decisions better informed and receive information timely. Form 8-K takes approximately 5 hours per response and is filed by approximately 13,200 issuers approximately 8.21 annually for a total of 108,424 responses annually. We estimate 75% of the 5 hours per response (3.75 hours) is prepared by the issuer for a total annual reporting burden of 406,590 hours (3.75 hours per response × 108,424 responses).

An agency may not conduct or sponsor, and a person is not required to respond to, a collection of information unless it displays a currently valid control number.

Written comments regarding the above information should be directed to the following persons: (i) Desk Officer for the Securities and Exchange Commission, Office of Information and Regulatory Affairs, Office of Management and Budget, Room 10102, New Executive Office Building, Washington, DC 20503 or send an e-mail to Shagufta_Ahmed@omb.eop.gov; and (ii) Charles Boucher, Director/CIO, Securities and Exchange Commission, C/O Shirley Martinson, 6432 General Green Way, Alexandria, VA 22312; or send an e-mail to: PRA_Mailbox@sec.gov. Comments must be submitted to OMB within 30 days of this notice.

Dated: April 10, 2009.
Florence E. Harmon,
Deputy Secretary.

[FR Doc. E9-8879 Filed 4-17-09; 8:45 am]

BILLING CODE 8010-01-P